DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than April 10, 2000.

Interested persons are invited to submit written comments regarding the subject matter of the investigations to the Director, Division of Trade Adjustment Assistance, at the address shown below, not later than April 10, 2000.

The petitions filed in this case are available for inspection at the Office of the Director, Division of Trade Adjustment Assistance, Employment and Training Administration, U.S. Department of Labor, 200 Constitution Avenue, NW, Washington, DC 20210.

Signed at Washington, DC this 13th day of March, 2000.
Grant D. Beale,
Program Manager, Division of Trade Adjustment Assistance.

Appendix

Petitions Instituted on 03/13/2000
TA-W | Subject firm (petitioners) | Location | Date of petition | Product(s)
37,438 | Georgia Pacific (PACE) | Woodland, ME | 03/01/2000 | Panels.
37,439 | National Ceramics (Wkrs) | Cunningham, KY | 02/28/2000 | Lamp Shades and Vases.
37,440 | Terry Products, Inc (Wkrs) | Kannapolis, NC | 03/02/2000 | Infant and Children's Sleepers.
37,441 | Kobe Precision, Inc (Wkrs) | Hayward, CA | 02/23/2000 | Aluminum Substrates.
37,442 | Cannon Knits (Wrks) | Andrews, SC | 02/29/2000 | Tee Shirts.
37,443 | Jerzees Activewear (Co.) | Geneva, AL | 02/25/2000 | Knit Apparel.
37,444 | Kobratech Design (Wkrs) | N. Canton, OH | 02/27/2000 | Tire Model Makers.
37,445 | Gorham—Lenox (Co.) | Smithfield, RI | 02/29/2000 | Stainless Steel Place Settings.
37,446 | Mulay Plastics, Inc (Wkrs) | Casa Grande, AZ | 02/29/2000 | Cabinetry for Computer Monitors.
37,447 | Powerex, Inc (co.) | Youngwood, PA | 02/15/2000 | Semiconductors.
37,448 | Regal Ware (Co.) | Jacksonville, AR | 02/23/2000 | Aluminum Cookware.
37,449 | New River Apparel (Wkrs) | Fries, VA | 02/28/2000 | Shirts, Pants, Sweatshirts, Jackets.
37,450 | Xomox Corporation (Co.) | Cincinnati, OH | 03/03/2000 | Ball Valves.
37,451 | Cross Creek Apparel (Co.) | Mount Airy, NC | 02/21/2000 | Knit Shirts, Pants.
37,452 | EZA Technology (Co.) | Conyers, GA | 02/28/2000 | Computer Cases.
37,453 | Jantzen, Inc (Co.) | Seneca, SC | 02/29/2000 | Warehoused & Cut Apparel Fabric.
37,454 | Corson Manufacturing Co (Wkrs) | Lockport, NY | 03/01/2000 | Folding Cartons.
37,455 | McCain Foods USA (Co.) | Burley, ID | 02/05/2000 | Frozen French Fries.
37,456 | General Electric Services (UE) | Ontario, CA | 03/05/2000 | Overall & Repair Jet Engines.
37,457 | Best Manufacturing Co (Co.) | Johnson City, TN | 03/06/2000 | Synthetic Disposable Gloves.
37,458 | Williston Manufacturing (Co.) | Williston, SC | 01/21/2000 | Girl's & Boy's Shorts, Tops.
37,459 | Rohm and Haas Co. (IUOE) | Philadelphia, PA | 03/03/2000 | Ion Exchange Resins.
37,460 | Mr. Louis Manufacturing (Wkrs) | Hialeah, FL | 03/03/2000 | Ladies' Jackets.
37,461 | Epic Components Co (Co.) | New Boston, MI | 02/23/2000 | Plastic Automobile Components.
37,462 | Brandon Manufacturing (Co.) | Shreveport, LA | 02/16/2000 | Metal Parts for Electrical Switches.
37,463 | LaCrosse Footwear, Inc (USWA) | LaCrosse, Wi | 02/24/2000 | Rubber Footwear.
37,464 | Republic Supply Co (Wkrs) | Sidney, MT | 02/28/2000 | Oil Pipe Fittings.
37,465 | Quaker Oats Co. (BCTGM) | Shiremanstown, PA | 02/27/2000 | Cereals and Granola Bars.
37,466 | Rochester Button Co. (Co.) | Kenbridge, VA | 03/01/2000 | Polyester Buttons.
37,467 | Hartz and Co., Inc. (UNITE) | Baltimore, MD | 03/06/2000 | Men's Suits, Trousers and Sport and Coats.
37,468 | Great American Knitting (Co.) | Pottstown, PA | 03/06/2000 | Men's Gold Toe Socks.
37,469 | Sherwood Market House (UNITE) | Alliance, OH | 03/06/2000 | Ladies' Coats.

[FR Doc. 00-7983 Filed 3-30-00; 8:45 am]

BILLING CODE 4510-30-M